OFFICE OF MANAGEMENT AND BUDGET

Standard Occupational Classification (SOC) System—Revision for 2018

AGENCY: Executive Office of the President, Office of Management and Budget.

ACTION: Notice of 2018 Standard Occupational Classification final decisions.

SUMMARY: The Office of Management and Budget (OMB) announces its final decision for the 2018 revision of Statistical Policy Directive No. 10, Standard Occupational Classification (SOC). More details on these revisions are presented in the SUPPLEMENTARY INFORMATION section below and on https://www.bls.gov/SOC/.

DATES: Effective date: Federal statistical agencies will begin using the 2018 SOC for occupational data they publish for reference years beginning on or after January 1, 2018. Electronic publication of the 2018 Standard Occupational Classification Manual is planned following the publication of this notice.

The 2018 SOC was designed and developed solely for statistical purposes. Readers interested in the effective dates for the use of the 2018 SOC for non-statistical purposes should contact the relevant agency to determine the agency's plans, if any, for a transition from the 2010 SOC to the 2018 SOC.

ADDRESSES: Correspondence about the adoption and implementation of the SOC as described in this Federal Register notice should be sent to: Nancy A. Potok, U.S. Chief Statistician, New Executive Office Building, Washington, DC 20503, email soc@omb.eop.gov. Inquiries about the definitions for particular occupations that cannot be satisfied by use of the Web site should be addressed to Standard Occupational Classification Policy Committee, U.S. Bureau of Labor Statistics, Room 2135, Washington, DC 20212; email: soc@bls.gov.

FOR FURTHER INFORMATION CONTACT: Jennifer Park, Senior Statistician, New Executive Office Building, Washington, DC 20503, email address: soc@omb.eop.gov.

SUPPLEMENTARY INFORMATION: Under 31 U.S.C. 1104(d) and 44 U.S.C. 3504(e), the Office of Management and Budget (OMB) announces its final decision for the 2018 revision of Statistical Policy Directive No. 10, Standard Occupational Classification (SOC).

The SOC classifies all occupations for which work is performed for pay or profit. It covers all jobs in the national economy, including occupations in the public, private, and military sectors. In this way, the SOC is designed to reflect the current occupational composition of the United States.

The SOC supports efficiency and effectiveness of the Federal statistical system by providing a standard for occupation-based statistical data classification and thereby ensuring comparability of these data across Federal statistical agencies. Accordingly, all Federal agencies that publish occupational data for statistical purposes are required to use the SOC; State and local government agencies are strongly encouraged to use this national system to promote a common language for categorizing and analyzing occupations.

Consistent with good statistical practice, these classifications are reviewed and revised periodically to ensure relevance and accuracy. Prior Federal Register notices requested public comment regarding the 2018 revision to the SOC (May 22, 2014, 79 FR 29620-29624; and July 22, 2016, 81 FR 48306-&48310). The Standard Occupational Classification Policy Committee (SOCPC, a Federal interagency technical working group) carefully reviewed comments received in preparing its recommendations. OMB carefully considered these recommendations when making the decisions presented in this notice. OMB has requested that the SOCPC prepare the 2018 Standard Occupational Classification Manual for publication online reflecting these final decisions. The 2018 SOC Manual, a complete crosswalk between the 2010 and 2018 SOC, and other supporting materials will be available online at https://www.bls.gov/SOC/ following publication of this notice.

Future activities: To ensure that the SOC continues to reflect the structure of the changing workforce in a timely and accurate manner, the SOCPC will serve as a standing committee. The SOCPC will meet periodically to monitor and maintain the implementation of the 2018 SOC, such as recommending, as needed, clarification of SOC occupational definitions, placement of new occupations within the existing structure, and updating title files.

Electronic Availability: This document is available at https://www.bls.gov/SOC/. The Web page contains links to previous SOC Federal Register notices and related documents, the full 2018 SOC structure and definitions, principles and guidelines, and other supporting materials, including the full 2018 SOC Manual.

Purpose and History of the SOC

The U.S. Federal statistical system is highly decentralized, with 13 principal Federal statistical agencies that have statistical activities as their primary mission and approximately 115 other agencies that carry out statistical activities in conjunction with other missions such as providing services, conducting research, or implementing laws and regulations. OMB coordinates the Federal statistical system by developing and overseeing the implementation of Government-wide principles, policies, standards, and guidelines concerning the presentation and dissemination of statistical information. These coordination efforts promote the efficiency and effectiveness of the Federal statistical system. One such standard for statistical data classification established by OMB is Statistical Policy Directive No. 10, Standard Occupational Classification (SOC), which ensures consistency of occupation-based statistical data classification across Federal statistical activities.

The SOC system classifies all occupations in the economy, including private, public, and military occupations, to facilitate comparability across occupational data produced for statistical purposes by Federal agencies. The SOC is designed to reflect the current occupational composition in the U.S. and to cover all occupations in which work is performed for pay or profit. Information about occupations— such as employment levels and projections, pay and benefits, skills required, and demographic characteristics of job holders—is widely used by individuals, businesses, researchers, educators, and public policy-makers.

The SOC is designed exclusively for statistical purposes. Although the SOC may also be used for various non-statistical purposes (e.g., for administrative, regulatory, or taxation functions), the requirements of government agencies, businesses, or private users that choose to use the SOC for non-statistical purposes play no role in the development or revision of the SOC. The appropriateness of using the SOC for non-statistical purposes must be evaluated on a case-by-case basis.

The SOC was first issued in 1977. To reflect changes in the economy and in the nature of work, the SOC must be revised periodically. Prior to the 2000 SOC, the SOC was not widely used across Federal data collections. With the implementation of the 2000 SOC, all major occupational data collections in the Federal statistical system provided comparable data, greatly improving the utility of the data. The SOC has been revised four times since its inception: 1980, 2000, 2010, and this 2018 revision.

A new feature was introduced in the 2010 SOC: The Direct Match Title File. This feature lists job titles associated with detailed SOC occupations. Each of these titles directly matches to a single SOC detailed occupation (i.e., one-to-one mappings, where all workers with the job title listed in the Direct Match Title File are classified into exactly one detailed SOC occupation code). The Direct Match Title File has been updated for 2018.

2018 Revision for the SOC—Overview of the Revision Process

The formal 2018 SOC revision process was initiated by OMB and the SOCPC through a request for public comment in a May 22, 2014, Federal Register notice (79 FR 29620). The 2018 revision process included two requests for public comment, review of the public comments by the SOCPC following each request, and the SOCPC making recommendations to OMB on the suite of 2018 revisions. The SOCPC created eight workgroups to carry out the bulk of the revision effort and examine occupations by groups of Major Groups. These workgroups were charged with reviewing the public comments received in response to each of the Federal Register notices and providing recommendations for addressing these comments to the SOCPC. The workgroups and the SOCPC made recommendations guided by the SOC Classification Principles and Coding Guidelines (available at https://www.bls.gov/SOC/). Following each review of public comments, the workgroups made recommendations by consensus to the SOCPC, the SOCPC reviewed the workgroup recommendations and made their own recommendations by consensus. The SOCPC sent their recommendations to OMB after reviewing both sets of public comments. These recommendations led to the creation of new occupations, revised occupational titles and definitions, and changes to the structure and placement of individual occupations.

The May 22, 2014, Federal Register notice requested public comments on (1) the proposed new Classification Principle to the 2010 SOC Classification Principles emphasizing the importance of maintaining time series continuity: “To maximize the comparability of data, time series continuity is maintained to the extent possible;” (2) the intention to retain the 2010 SOC Coding Guidelines; (3) the intention to retain the 2010 SOC Major Group structure; (4) proposals for the correction, change, or combination of 2010 SOC detailed occupations; and (5) proposals for new detailed occupations. The comment period for the May 22, 2014, Federal Register notice closed on July 21, 2014. Approximately 300 public comments were received in response to this May 22, 2014, notice.

OMB published the SOCPC interim recommendations in the July 22, 2016, Federal Register (81 FR 48306) requesting public comment on: (1) The 2018 SOC Classification Principles and Coding Guidelines recommended by the SOCPC; (2) the proposed hierarchical structure of the 2018 SOC, including changes to the major, minor, broad, and detailed occupation groups; (3) the titles, placement, and codes of new occupations that the SOCPC recommended be added in the revised 2018 SOC; and (4) preliminary definitions for revised and proposed 2018 SOC occupations. In conjunction with the publication of the July 22, 2016, Federal Register notice, rationales for the recommended changes in response to specific comments from the May 22, 2014, Federal Register notice were made available on the SOC Web site at https://www.bls.gov/SOC/. More than 6,300 public comments were received in response to the July 22, 2016, Federal Register notice.

The SOCPC's final recommendations of additional changes to the SOC structures and definitions were shared with OMB in a report; this report will be available at https://www.bls.gov/SOC/.

Public Comments

Each of the more than 6,300 individual public comments in response to the July 22, 2016, Federal Register notice received a unique docket number when received and similar dockets were reviewed simultaneously by the workgroups and the SOCPC. In total, approximately 223 unique issues were identified in commenters' correspondence. The SOCPC's full set of responses to the comments received in response to the July 22, 2016, Federal Register notice will be available at https://www.bls.gov/SOC/.

In some cases, the SOCPC recommended changes to the 2018 SOC based on input from member agencies and workgroups, separate from the public comment process. Changes to titles and definitions that resulted do not necessarily alter occupational coverage, but rather refine how occupations are described. For example, the SOCPC recommended accepting the internal suggestion for a different title, “Radiologic Technologists and Technicians” (29-2034) in place of the former 2010 SOC title, “Radiologic Technologists.”

Many proposed new occupations were found to be already covered in the definition of an existing SOC occupation, resulting in no SOCPC recommended change or a SOCPC recommended change for clarification to the title or definition.

2018 Revision for the SOC—OMB Decision

The SOCPC's final recommendations for the 2018 revision to the SOC included a number of significant changes, including new occupations. Many recommended changes modified occupations' titles and definitions to appropriately reflect technological advancements within the occupations. Significant recommended updates were recommended in the management, business, finance, information technology, engineering, social science, education, media, healthcare, personal care, extraction, and transportation occupations.

Through this notice, OMB announces its final decisions regarding the 2018 revision to the SOC. OMB's final decision is to adopt all of the SOCPC's final recommendations with the exception of one. The SOCPC recommended no change to the title of the 2010 SOC occupation 43-5031 Police, Fire, and Ambulance Dispatchers for the 2018 revision. OMB has decided not to accept the SOCPC's recommendation in this case and to change the title of the 2010 SOC occupation 43-5031 Police, Fire, and Ambulance Dispatchers to 43-5031 Public Safety Telecommunicators for the 2018 revision to the SOC. OMB made this decision to reflect better the full scope of occupations organized under this title. All other SOCPC recommendations are adopted as part of OMB's final decision on the 2018 revision to the SOC and are outlined on the SOC Web site at https://www.bls.gov/SOC/; the final 2018 SOC will be published in the online 2018 SOC Manual following publication of this notice.

Compared to the 2010 SOC, the 2018 SOC realized a net gain of 27 detailed occupations and 1 minor group. The net number of broad occupations fell by 2 and the number of major groups remained unchanged. The 2018 SOC system contains 867 detailed occupations, aggregated into 459 broad occupations. In turn, the SOC combines these 459 broad occupations into 98 minor groups and 23 major groups. Of the 867 detailed occupations in the 2018 structure, 472 remained unchanged from 2010. Seventy detailed occupations are new to the 2018 SOC. Additional details describing the 2018 revisions are available on the SOC Web site at https://www.bls.gov/SOC/.

Next Steps

Implementation: Federal statistical agencies will implement the 2018 SOC as soon as is practical after its publication with the earliest implementations corresponding to collections with reference timeframes on or after January 1, 2018.

Maintaining currency. The SOCPC will continue to meet periodically following publication of the 2018 SOC Manual, particularly to consider new and emerging occupations and additional titles for the Direct Match Title File.

SOC users are reminded that the SOC coding system is designed to allow for delineation of occupations below the detailed occupation level for parties wishing to collect additional levels of detail, as stated in Coding Guideline 3, available at https://www.bls.gov/SOC/. OMB recommends that those needing extra detail consider using the structure of the Department of Labor's Employment and Training Administration's Occupational Information Network (O*NET), which adds a decimal point and additional digit (s) after the sixth digit of SOC codes.

Richard P. Theroux,
Acting Deputy Administrator, Office of Information and Regulatory Affairs.

[FR Doc. 2017-25622 Filed 11-27-17; 8:45 am]

BILLING CODE 3110-01-P